DEPARTMENT OF THE INTERIOR

National Park Service

[NPS-PWR-PWRO-0308-6923;9082-HONO-420]

Honouliuli Special Resource Study, Honolulu, Maui, Hawaii, and Kauai Counties, HI

AGENCY: National Park Service, Interior.

ACTION: Notice of Scoping for Honouliuli Special Resource Study, Hawaii.

SUMMARY: Notice is hereby given that pursuant to provisions of the National Environmental Policy Act of 1969 (Pub. L. 91-190) and the Council on Environmental Quality's implementing regulations (40 CFR 1502.9(c)) the National Park Service has initiated the public scoping phase for the conservation planning and environmental impact analysis process needed to identify and assess potential impacts of alternatives for resource protection and other considerations within the Honouliuli Special Resource Study area in Honolulu, Maui, Hawaii, and Kauai Counties of Hawaii. The purpose of the scoping phase is to elicit early public comment regarding issues and concerns, preliminary alternatives, and the nature and extent of potential environmental impacts (and as appropriate, mitigation measures) which should be addressed.

Background: As authorized by the Department of the Interior, Environment, and Related Agencies Appropriations Act, 2010 (Pub. L. 111-88- October, 2009), the National Park Service (NPS) is conducting a special resource study of the area known as Honouliuli Gulch, and associated sites. The study evaluates the Honouliuli Gulch Internment Camp and associated sites located on Oahu and five other islands located in the State of Hawaii with respect to (1) Their significance as components of World War II; (2) significance of the sites as related to the forcible internment of Japanese Americans, European Americans, and other individuals; and (3) historic resources at the sites.

In conducting the study, the NPS study team shall use criteria for potential inclusion within the National Park System as described in § 8 of Public Law 91-383 (16 U.S.C. 1a-5). The Special Resource Study will evaluate the national significance, suitability, and feasibility of including the Honouliuli Gulch and associated sites in the National Park System. Factors which the NPS study team will evaluate include: The value of the site in interpreting the themes of our nation's heritage; the integrity of the site's resources; whether the study area includes types or quality of resources not already adequately represented in the National Park System; whether long-term protection and public use of the area are feasible; and whether the area can be adequately protected and administered at a reasonable cost.

The authorizing statute directs the NPS to consult with (1) The State of Hawaii; (2) appropriate Federal agencies; (3) Native Hawaiian and local government entities; (4) private and nonprofit organizations; (5) private landowners; and (6) other interested parties. Recommendations of the NPS study team may vary for different portions of the study area. The NPS study team will also consider alternative strategies for management, protection and use of significant resources within the overall study area, including management by other public agencies or the private sector; technical or financial assistance available from established programs or special initiatives and partnerships; and cooperative management by NPS and other entities.

Public Engagement: During the study process, a range of alternatives will be developed in consultation with Federal, State and local governments and interested members of the public, groups, and organizations. The NPS study team will conduct an environmental review of the alternatives and potential consequences of resource protection considerations as part of the Honouliuli Special Resource Study. At this time, it has not been determined whether an Environmental Assessment or an Environmental Impact Statement will be prepared, however, this scoping phase will aid in the preparation of either document, and public comments will aid in making this determination. The public will have several opportunities to comment and participate throughout the study process. Additionally, the public will be afforded the opportunity to review and comment on the ensuing environmental document following its release.

For initial scoping and alternatives development, the most useful comments are those that provide the NPS with assistance in identifying issues and concerns which should be addressed, or providing important information germane to this study. All responses to this Scoping Notice will also be used to establish a mailing list of interested persons, organizations, and agencies that desire to receive further information as the environmental document is developed.

All comments regarding the Honouliuli Special Resource Study must be postmarked or transmitted no later than June 1, 2011. Interested individuals, organizations, and agencies wishing to provide written comments should respond to: National Park Service, Honouliuli Special Resource Study, 300 Ala Moana Blvd., Box 50165, Ste 6-226, Honolulu, HI 96850. Comments may also be transmitted through the Honouliuli Special Resource Study Web site (http://www.nps.gov/pwro/honouliuli).

Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Periodic information updates about the study process and opportunities for the public to participate will be distributed via direct mailings, regional and local news media, and the study's Web site (noted above). The NPS study team may also be contacted via e-mail at pwro_honouliuli@nps.gov. Availability of the forthcoming environmental document for review and written comment will be announced by local and regional news media, the above listed Web site, and direct mailing—at this time the document is anticipated to be available during Fall, 2011.

The official responsible for the initial recommendation will be the Regional Director, Pacific West Region, National Park Service. The official responsible for amending or ratifying the recommendation and transmitting the final document to the Secretary of the Interior will be the Director of the National Park Service. The final document will identify the alternative that, in the professional judgment of the Director of the National Park Service, is the most effective and efficient method for protecting significant resources and providing for public enjoyment. The Secretary of the Interior subsequently will forward the completed study along with a recommendation regarding the Secretary's preferred management option for the area to Congress for their consideration. It is anticipated that the final study report will be available in 2012.

Dated: March 2, 2011.
Christine S. Lehnertz,
Regional Director, Pacific West Region.

[FR Doc. 2011-10591 Filed 4-29-11; 8:45 am]

BILLING CODE 4312-GN-P